DEPARTMENT OF LABOR

Occupational Safety and Health Administration

29 CFR Part 1910

[Docket No. OSHA-2018-0003]

RIN 1218-AB76

Revising the Beryllium Standard for General Industry

AGENCY: Occupational Safety and Health Administration (OSHA), Labor.

ACTION: Proposed rule; withdrawal.

SUMMARY: With this document, OSHA is withdrawing the proposed rule that accompanied its direct final rule (DFR) amending the beryllium standard for general industry to address the application of the standard to materials containing trace amounts of beryllium.

DATES: As of July 3, 2018, the proposed rule published May 7, 2018 (83 FR 19989) is withdrawn.

FOR FURTHER INFORMATION CONTACT:

Press inquiries: Mr. Frank Meilinger, OSHA Office of Communications, Room N-3647, U.S. Department of Labor, 200 Constitution Avenue NW, Washington, DC 20210; telephone: (202) 693-1999; email: meilinger.francis2@dol.gov.

General information and technical inquiries: William Perry or Maureen Ruskin, Directorate of Standards and Guidance, Room N-3718, OSHA, U.S. Department of Labor, 200 Constitution Avenue NW, Washington, DC 20210; telephone: (202) 693-1950; fax: (202) 693-1678.

Copies of this Federal Register document and news releases: Electronic copies of these documents are available at OSHA's web page at http://www.osha.gov.

SUPPLEMENTARY INFORMATION: On May 7, 2018, OSHA published a DFR amending the application of the beryllium standard to materials containing trace amounts of beryllium (83 FR 19936). OSHA also published a companion proposed rule proposing the same changes to the beryllium standard (83 FR 19989). In the DFR, OSHA stated that it would withdraw the companion proposed rule and confirm the effective date of the DFR if no significant adverse comments were submitted on the DFR by June 6, 2018. OSHA received seven comments in the record from Materion Brush, Inc., Mead Metals Inc., National Association of Manufacturers, Airborn, Inc., Edison Electric Institute, and two private citizens (Document ID OSHA-2018-0003-0004 thru OSHA-2018-0003-0010). The seven submissions contained comments that were either supportive of the DFR or were considered not to be significant adverse comments (Document IDs OSHA-2018-0003-0004 thru OSHA-2018-0003-0010). Three of these submissions also contained comments that were outside the scope of the DFR and OSHA is not considering portions of those submissions that are outside the scope (OSHA-2018-0003-0004 thru OSHA-2018-0003-0006). Accordingly, OSHA is not proceeding with the proposed rule and is withdrawing it from the rulemaking process.

List of Subjects in 29 CFR Part 1910

Beryllium, General industry, Health, Occupational safety and health.

Authority and Signature

Loren Sweatt, Deputy Assistant Secretary of Labor for Occupational Safety and Health, directed the preparation of this document under the following authorities: Sections 4, 6, and 8 of the Occupational Safety and Health Act of 1970 (29 U.S.C. 653, 655, 657), Secretary of Labor's Order 5-2007 (72 FR 31159), and 29 CFR part 1911.

Signed at Washington, DC, on June 27, 2018.
Loren Sweatt,
Deputy Assistant Secretary of Labor for Occupational Safety and Health.

[FR Doc. 2018-14275 Filed 7-2-18; 8:45 am]

BILLING CODE 4510-26-P